DEPARTMENT OF ENERGY

Blue Ribbon Commission on America's Nuclear Future

AGENCY: Office of Nuclear Energy, DOE.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES:

Wednesday, July 14, 2010, 8 a.m.-5 p.m. p.d.t.

Thursday, July 15, 2010, 8:30 a.m.-1 p.m. p.d.t.

ADDRESSES: Three Rivers Convention Center, 7016 W. Grandridge Blvd., Kennewick, WA 99336, 509-737-3700.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Commission held its second full Commission meeting on May 25 and 26, 2010. The Commission is scheduled to submit a draft report to the Secretary of Energy by July 2011, and a final report by January 2012.

Purpose of the Meeting: The meeting will provide the Commission with a range of local and regional perspectives from a wide variety of individuals and organizations. The tours will afford the Commissioners an opportunity to see first-hand a collection of facilities involved in the treatment, packaging and storage of used fuel and high-level wastes.

Tentative Agenda: The meeting is expected to start at 8 a.m. on July 14 with the Commissioners touring relevant areas of the Hanford Site. Presentations to the Commission are expected to begin at approximately 2 p.m. at the Three Rivers Convention Center. The Commission will then hear presentations and statements from various stakeholder groups, and ask questions of the presenters, to provide additional information for Commission consideration. The meeting on July 15 is expected to start at 8:30 a.m. with additional presentations and statements, move to discussions by the Commissioners, and conclude with public statements. The meeting will end by 1 p.m.

Public Participation: The meeting and the tour of the relevant areas of the Hanford Site are open to the public on a space-available basis. Those wishing to attend the tour with the Commissioners must register in advance at http://www.hanford.gov. Registration is on a “first-come, first-served” basis and is limited to 80 people. Registration will open on July 2 at 7 a.m. and close on July 9 at noon.

Individuals and representatives of organizations who would like to offer comments and suggestions may do so at the end of the meeting on Thursday, July 15, 2010. Approximately 45 minutes will be reserved for public comments. Time allotted per speaker will depend on the number who wish to speak but will not exceed 5 minutes. The Designated Federal Officer is empowered to conduct the meeting in a fashion that will facilitate the orderly conduct of business. Those wishing to speak should register to do so beginning at 8 a.m. on July 15, 2010 at the Three Rivers Convention Center.

Those not able to attend the meeting or have insufficient time to address the committee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live Webcast. The link will be available at http://www.brc.gov.

Minutes: The minutes of the meeting will be available at http://www.brc.gov or by contacting Mr. Frazier. He may be reached at the postal address or e-mail address above.

Issued in Washington, DC on June 22, 2010.
Rachel Samuel,
Deputy Committee Management Officer.

[FR Doc. 2010-15593 Filed 6-25-10; 8:45 am]

BILLING CODE 6450-01-P